DEPARTMENT OF THE INTERIOR

Bureau of Land Management

[NM-520-1430-FM; NMNM 106766]

Notice of Intent To Prepare an Amendment and Associated Environmental Assessment to the Carlsbad Field Office Resource Management Plan, New Mexico

AGENCY: Bureau of Land Management, Interior.

ACTION: Notice of intent.

SUMMARY: The Bureau of Land Management (BLM) Carlsbad Field Office intends to prepare a Resource Management Plan Amendment (RMPA) and associated Environmental Assessment (EA) to analyze the possible disposal, by either exchange and/or sale, of up to 3,566.88 acres of BLM-administered public land in Eddy and Lea Counties in southeastern New Mexico.

DATES: Written comments will be accepted for 30 days after the date this Notice is published in the Federal Register.

ADDRESSES: Written comments may be submitted through any of the following methods:

• Mail: Field Manager, BLM, Carlsbad Field Office, 620 East Greene, Carlsbad, New Mexico 88220.

• Fax: (505) 885-9264.

• Personal delivery to the Carlsbad Field Office: see address above.

Additional information on the project is also available at the Field Office's above address. The 1988 Carlsbad RMP is also available at the Carlsbad Field Office and posted on the following BLM Web site: http://www.nm.blm.gov/cfo/index.htm.

FOR FURTHER INFORMATION CONTACT: Owen W. Lofton, Realty Specialist, BLM, Carlsbad Field Office, 620 East Greene, Carlsbad, New Mexico, (505) 234-5923.

SUPPLEMENTARY INFORMATION: The BLM is currently considering a proposal from Intrepid Potash, Inc. (formerly Mississippi Potash Inc.), to complete a land exchange and/or sale. Intrepid Potash, Inc. proposes that BLM dispose of public lands around its mine sites in exchange for private lands around the Pecos River. In addition, Intrepid Potash, Inc. proposes to purchase additional BLM lands in order to continue its mining operations and hazardous material mitigation. The public lands proposed for disposal contain mine tailings and other industrial waste. The private lands offered for exchange consist of riparian habitat and native rangeland. The public land proposed for disposal is currently identified for retention in Federal ownership in the 1988 Carlsbad RMP. The RMP must therefore be amended to identify these public lands as suitable for exchange and/or sale. The lands proposed for disposal are described as follows:

New Mexico Principal Meridian

T. 21 S., R. 29 E.,

sec. 01, N½SW¼, SE¼SW¼, SE¼; 280.00 acres.

sec. 12, E½, E½NW¼, SW¼; 560.00 acres.

sec. 13, N½NE¼, SE¼NE¼; 120.00 acres.

sec. 14, SW¼NE¼; 40.00 acres.

T. 20 S., R. 30 E.,

sec. 04, W½SW¼, NE¼SE¼; 120.00 acres.

sec. 05, N½SW¼, SE¼SW¼, S½SE¼; 200.00 acres.

sec. 09, N½N½; 160.00 acres.

T. 21 S., R. 31 E.,

sec. 03, S½SW¼; 80.00 acres.

sec. 04, Lots 1-16, inclusive; 648.96 acres.

sec. 05, S½SE¼; 80.00 acres.

sec. 09, N½; 320.00 acres.

sec. 10, NW¼; 160.00 acres.

T., 20 S., R. 32 E.,

sec. 07, Lot 4, SE¼SW¼, S½SE¼; 159.43 acres.

sec. 08, S½SW¼; 80.00 acres.

sec. 17, W½; 320.00 acres.

sec. 18, Lots 1, 2, 4, and SE¼SW¼, S½SE¼; 238.49 acres.

Total: 3,566.88 acres

A Notice of Intent (NOI) regarding a similar proposal was originally published in the Federal Register on September 11, 2002. The purpose of this earlier proposal was to provide notice of the BLM's intent to prepare a plan amendment to change the classification of lands previously identified for retention to suitable for disposal solely by exchange. However, a recent appraisal necessitated acreage adjustments to reach equal land values, and consequently, Intrepid Potash, Inc. had to eliminate lands that they would still like to acquire. Without any more lands to offer the BLM for exchange, Intrepid Potash, Inc. has proposed to purchase some BLM lands to continue mining operations and hazardous material mitigation. Therefore, the current proposed amendment is to consider land disposal by either exchange and/or sale in the plan amendment process.

Preliminary issues include, but are not limited to: Wildlife and riparian habitat, rangeland resources, recreation, hazardous materials, and cultural resources. In addition to the No Action Alternative (existing management situation), a range of alternatives will be considered that will address a combination of land sale and exchange, as well as mitigation.

The preliminary land use planning criteria are:

1. The amendment will be in compliance with FLPMA and applicable laws, regulations, and policies. The land use plan amendment process will be governed by the planning regulations at 43 CFR part 1610 and BLM Land Use Planning Handbook H-1601-1.

2. The proposed action and alternatives will be analyzed in accordance with NEPA.

3. Lands affected by the proposed plan amendment include public surface and mineral estate managed by BLM. No decisions will be made relative to non-BLM administered lands or non-federal minerals.

4. Public participation will be an integral part of the planning process.

5. The plan amendment will recognize all valid existing rights.

6. The BLM will work with cooperating agencies and all other interested groups, agencies, and individuals. The amended RMP will be consistent with existing non-Federal plans and policies, provided the decisions in the existing plans are consistent with the purposes, policies, and programs of Federal law and regulations for public lands.

The RMPA/EA will be prepared by an interdisciplinary team of BLM resource specialists including realty, recreation, cultural, minerals, and hazardous materials specialists. Additional technical support will be provided by other specialists as needed. Before including your address, phone number, e-mail address, or other personal identifying information in your comment, you should be aware that your entire comment—including your personal identifying information—may be made publicly available at any time. While you can ask us in your comment to withhold your personal identifying information from public review, we cannot guarantee that we will be able to do so.

Dated: July 20, 2007.
Jim Stovall,
Carlsbad Field Manager.

[FR Doc. E7-16342 Filed 8-17-07; 8:45 am]

BILLING CODE 4310-OX-P